DEPARTMENT OF AGRICULTURE

Forest Service

Request for Proposals for Woody Biomass Utilization Grant—Forest Restoration Activities on National Forest System Lands

AGENCY: Forest Service, USDA.

ACTION: Request for proposals.

SUMMARY: The USDA Forest Service, State and Private Forestry, Technology Marketing Unit, located at the Forest Products Laboratory, requests proposals for forest product projects that increase the use of woody biomass from National Forest System lands. The woody biomass utilization grant program is intended to help improve forest restoration activities by using and creating markets for small-diameter material and low-valued trees removed from forest restoration activities, such as reducing hazardous fuels, handling insect and diseased conditions, or treating forestlands impacted by catastrophic weather events. These funds are targeted to help communities, entrepreneurs, and others turn residues from forest restoration activities into marketable forest products and/or energy products.

DATES: Pre-application Postmark Deadline: November 7, 2008. Full application Postmark Deadline: February 13, 2009.

ADDRESSES: All pre- and full-application packages must be sent to the following address: ATTN: Patricia Brumm, Grants and Agreements Specialist, Forest Products Laboratory, One Gifford Pinchot Drive, Madison, WI 53726-2398. Detailed information regarding what to include in the pre- and full-application, definitions of terms, eligibility and Federal restrictions are available at http://www.fpl.fs.fed.us/tmu (under Woody Biomass Grants), and at http://www.grants.gov). Paper copies of the information are also available by contacting the USDA Forest Service, S&PF Technology Marketing Unit, One Gifford Pinchot Dr., Madison, Wisconsin 53726-2398, 608-231-9504.

FOR FURTHER INFORMATION CONTACT: For questions regarding the grant application or administrative regulations, contact Patricia Brumm, Grants and Agreements Specialist, 608-231-9298, pbrumm@fs.fed.us; for program and technical questions, contact Susan LeVan, Program Manager, 608-231-9504, slevan@fs.fed.us.

Individuals who use telecommunication devices for the deaf (TDD) may call the Federal Information Relay Service (FIRS) at 1-800-877-8339 between 8 a.m. and 8 p.m., Eastern Standard Time, Monday through Friday.

SUPPLEMENTARY INFORMATION: To address the mutual goals of Public Law 109-58, the Energy Policy Act of 2005, and the anticipated Department of the Interior, Environment, and Related Agencies Appropriation Act of 2009, the agency is requesting proposals to address the nationwide challenge in dealing with low-valued material removed from hazardous fuel reduction activities, restoration of insect and diseased conditions or catastrophic weather events. The Woody Biomass Utilization Grant Program has a pre-application submission process, and upon notification, selected pre-applicants will be asked to submit a full application. Goals of the grant program are the following:

• Help reduce forest management costs by increasing value of biomass and other forest products generated from forest restoration activities.

• Create incentives and/or reduce business risk for increased use of biomass from national forestlands (must include National Forest System lands, however, may also include other lands such as, BLM, Tribal, State, local, and private).

• Institute projects that target and help remove economic and market barriers to using small-diameter trees and woody biomass.

• Help generate renewable energy from woody biomass, including the use of new technologies.

• Build industry infrastructure around national forestlands where no or limited industry infrastructure exists.

• Expand working relationships between local forest products businesses and Forest Service offices.

Woody Biomass Grants Program

1. Eligibility Information

a. Eligible Applicants. Eligible applicants are State, local, and Tribal governments, school districts, communities, non-profit organizations, businesses, companies, corporations, or special purpose districts, e.g., public utilities districts, fire districts, conservation districts, or ports. Only one application per business or organization will be accepted. If applicants have received a Woody Biomass Utilization Grant within the last 3 years, they are not eligible. Construction projects involving a permanent building or infrastructure item, such as roads, are not allowed with these Federal funds; however construction funds can be part of the non-Federal cost share. For Alaska, only applicants on the Seward Ranger District on the Chugach National Forest are eligible to apply for this grant. Cordova and Glacier Ranger Districts on the Chugach are not eligible. Ranger Districts on the Tongass National Forest are not eligible.

b. Cost Sharing (Matching Requirement). Applicants must demonstrate at least a 20% match of the total project cost. This match must be from non-Federal sources, which can include cash or in-kind contributions.

2. DUNS Number

All applicants must include a Dun and Bradstreet (D&B), Data Universal Numbering System (DUNS) number in their full application. For the purpose of this requirement, the applicant is the entity that meets the eligibility criteria and has the legal authority to apply for an award. For assistance in obtaining a DUNS number at no cost, call the DUNS number request line (1-866-705-5711) or register on-line at http://fedgov.dnb.com/webform. By submission of an application, the applicant acknowledges the requirement that prospective awardees shall be registered in the Central Contractor Registration (CCR) database prior to award, during performance, and through final payment of any grant resulting from this solicitation. Further information can be found at http://www.ccr.gov. For assistance, contact the CCR Assistance Center (1-888-227-2423).

3. Award Information

At least $4 million are available for granting under this program. Individual grants will not be less than $50,000 or more than $250,000. Funds are presently not available for this grant program. The Government's obligation under this program is contingent upon the availability of 2009 appropriated funds from which payment for grant purposes can be made. No legal liability on the part of the Government for any payment may arise until funds are made available to the Grants Officer for this program, and until the Cooperator receives notice of such availability, to be confirmed in writing by the Grants Officer. Successful applicants will be announced by early April 2009. The maximum length of the award is 3 years from the date of award. Written annual financial performance reports and semi-annual project performance reports shall be required. Applicants should be aware that the grant funds are regarded as taxable income and a form 1099 will be sent by the Forest Service to the IRS. Awardees are expected to follow all OSHA requirements regarding safe working practices and all applicable State and Federal regulations pertinent to the proposed project.

4. Application Review Process

A two-step technical evaluation process is used for applications submitted under this solicitation. The first step requires the applicant to submit a preliminary application (pre-application). Pre-applications are evaluated on criteria discussed in section 5. All pre-applications shall be screened to ensure compliance with the administrative requirements as set forth in the RFP. Applications found to be non-compliant shall be disqualified.

A review panel of technical experts from Federal agencies judges the pre-applications. Panel members independently review the pre-applications according to the evaluation criteria and point system. A total of 100 points is possible. As a result of this preliminary review, successful pre-applications are invited to submit a full application package. Unsuccessful pre-applicants are removed from further consideration for funding under this solicitation. In either case, a letter of notification is provided to each applicant.

The second step requires the applicant to submit a full application package, which is based on the same evaluation criteria as the preliminary application. Each full application shall be screened to ensure that it meets the administrative requirements as set forth in the RFP. The full application package is evaluated for technical merit and financial feasibility. The reviewers discuss, rank, and make recommendations to Executive Steering Committee of Senior Federal officials.

5. Evaluation Criteria and Point System

a. Impact on National Forest System Lands Forest Restoration Activities: Total Points 40

• Condition of the forestlands proposed for the project, such as Fire Regime Condition Class (http://www.frcc.gov), insect and disease risk conditions, or degraded forestlands due to catastrophic weather events.

• Direct, tangible benefits with and without the grant (e.g., increased acres treated from forest restoration activities, increased value of raw material removed from forest restoration activities, and reduced Forest Service's cost per acre).

• Indirect, intangible benefits (including air quality and water quality improvements in socioeconomics of communities, in wildlife habitats, and in watersheds).

• Opportunities created for using woody biomass material around National Forest System lands in locations where no or limited industry capacity exists.

b. Technical Approach Work Plan: Total Points 25

• Technical feasibility of the proposed work.

• Adequacy and completeness of the proposed tasks.

• Timeliness and reasonableness of time schedule.

• Identified deliverables/tasks.

• Evaluation and monitoring plan (accountability measures of environmental, social, financial and forest restoration effects of proposed project).

• Potential for project to improve efficiencies or to accelerate adoption of cleaner technologies (air, water, waste) for biomass utilization.

c. Financial Feasibility: Total Points 25

• Realistic budget and timeframe.

• Thorough financial documentation (see description of required documentation under financial feasibility, Section 7.c.).

• Level of matching funds for the grant.

d. Qualifications and Experience of Applicant: Total Points 10

• Experience, capabilities (technical and managerial).

• Demonstrated capacity.

If there are no technical or financial problems for the project, and there is significant impact on reducing the Forest Service's cost per acre, full points are given. If there are minor deficiencies, which could limit success, midway points are given. If there are major deficiencies, which could render the project unsuccessful, minimum points are given. Further scoring criteria can be found at http://www.fpl.fs.fed.us/tmu (under Woody Biomass Grants) and at http://www.grants.gov. Full application packages that do not submit ALL required financial information will be disqualified.

6. Pre-Application Information

a. Pre-Application Submission. Pre-applications are required. Specific content and submission requirements for the pre-application are as follows: Each submittal must be composed of two paper copies (single-sided) of the pre-application and one original copy. All proposals for the pre-application must be on 8.5- by 11-inch plain white paper only (no colored paper, over-sized paper, or special covers) with a minimum font size of 11 letters per inch. Top, bottom, and side margins must be no less than three-quarters of an inch. All pages must be clearly numbered. The paper copies of the application package should be stapled with a single staple at the upper left-hand corner. Do not staple the original. Other bindings will not be accepted.

b. Pre-Application Content. Project Summary, SF 424, and 424A shall be submitted with the application for acceptance. Assemble information in the following order: Project Summary, SF 424, SF 424A, project narrative, budget justification narrative, budget, and appendices. Forms for the Project Summary, SF424, and SF424A can be found at http://www.fpl.fs.fed.us/tmu (under Woody Biomass Grants). The project narrative consists of statement of need, project coordinator(s) and partner(s), goals and objectives, technical approach work plan, impact on National Forest System forest restoration treatments, and evaluation and monitoring plan. The project narrative shall provide a clear description of the work to be performed and its impact on National Forest System lands. It shall address the technical approach work plan under criteria b in section 5. The project narrative is limited to 5 pages, and excludes Project Summary Table, budget justification, budget, or appendices.

c. The discussion of the impact on National Forest System lands is a critical component because these proposals are aimed at helping the Forest Service increase the number of acres treated and decrease the cost per acre for those National Forest System lands that are at risk due to hazardous fuel buildup, insects and diseases, or catastrophic weather events. Applicants shall describe qualitatively and quantitatively how the project would decrease Forest Service treatment costs and/or increase the price one might offer for the woody biomass. Specifically, proposals should address the following:

• Condition of the forest or grassland, such as providing the Fire Regime Condition Class (http://www.frcc.gov), the insect and disease risk, or any catastrophic weather events and the consequences of the National Forest System not being able to do treatments because of the cost.

• Forest Service's current practices of handling material removed from forest restoration activities.

• What would be done with this material if grant is awarded?

• Anticipated outcomes and measures of success.

• Documentation of costs and benefits of project as a result of the award (see project feasibility discussion at http://www.fpl.fs.fed.us/tmu under Woody Biomass Grants or at http://www.grants.gov.

• Documentation of intangible benefits. Examples of tangible and intangible benefits are listed on the Technology Marketing Unit's Web site at http://www.fpl.fs.fed.us/tmu (under Woody Biomass Grants) or at http://www.grants.gov.

• Long-Term Benefits of Project: Applicant should address the length of time the benefits and impacts are anticipated (e.g., project will have long-term consequences, such as equipment improvements, or a one-time benefit, such as a subsidy.)

• Expansion capability: Does the project have the potential to expand the application to additional forest treatment areas or to create higher valued uses?

A full description of each content item can be obtained from the Technology Marketing Unit's Web site at http://www.fpl.fs.fed.us/tmu (under Woody Biomass Grants) or at http://www.grants.gov, or by calling the telephone number in the FOR FURTHER INFORMATION CONTACT section, or by writing to the address in the ADDRESSES section of this notice.

c. Pre-Application Delivery. Pre-applications must be post marked by November 7, 2008, and received no later than 5 p.m. Central Standard Time on November 14, 2008, by Patricia Brumm at the Forest Products Laboratory. Hand-delivered, or fax applications will not be accepted. E-mail applications should be submitted through http://www.grants.gov. No exceptions allowed. Please send pre-applications to the address listed in the ADDRESSES section of this notice.

7. Full Application Information

USDA Forest Service will request full applications only from those applicants selected in the pre-application process.

a. Full Application Submission. Specific content and submission requirements for the full application are as follows: Each submittal must be composed of two paper copies (single-sided) of the full application and one original copy. All proposals for the full application must be on 8.5- by 11-inch plain white paper only (no colored paper, over-sized paper, or special covers) with a minimum font size of 11 letters per inch. Top, bottom, and side margins must be no less than three-quarters of an inch. All pages must be clearly numbered. The paper copies of the application package should be stapled with a single staple at the upper left-hand corner. Do not staple the original. Other bindings will not be accepted.

b. Full Application Content. Project Summary Table, SF 424, and 424A shall be submitted with the application for acceptance. Assemble information in the following order: Project Summary Table, SF 424, SF424A, project narrative, budget justification narrative, budget, financial feasibility, and appendices. Forms for the Project Summary, SF424, and SF424A can be found at http://www.fpl.fs.fed.us/tmu (under Woody Biomass Grants). The project narrative consists of statement of need, project coordinator(s) and partner(s), goals and objectives, technical approach work plan, impact on National Forest System forest restoration activities, environmental documentation, project work plan and timeline, social impacts, evaluation and monitoring plan, and equipment description. The project narrative shall provide a clear description of the work to be performed, how it will be accomplished, and its impact on National Forest System lands. It shall address the technical approach work plan under criteria b listed in section 5. The project narrative is limited to a total of 10 pages and excludes Project Summary Table, budget justification, budget, appendices and financial documentation.

c. Detailed Financial Information. Detailed financial information is requested to assess the potential and the capability of the applicant. All financial information remains confidential and is not accessible under the Freedom of Information Act. If the applicant has questions about how confidential information is handled they should contact Patricia Brumm at pbrumm@fs.fed.us. The financial information should provide a general overview of historical and projected (pro forma) financial performance. Standard accounting principles should be used for developing the required financial information. Strong applications have benefited from the use of a certified accountant to develop this information. Applicants should refer to the Technology Marketing Unit's Web site at http://www.fpl.fs.fed.us/tmu (under Woody Biomass Grants) or at http://www.grants.gov for the financial information requirements, as well as Web sites for standard financial templates.

d. Full Application Delivery. Full applications must be postmarked by February 13, 2009, and received no later than 5 p.m. Central Standard Time on February 20, 2009, by Patricia Brumm at the Forest Products Laboratory. Hand-delivered or fax applications will not be accepted. E-mail applications should be submitted through http://www.grants.gov. No exceptions allowed. Please send full applications to the address listed in the ADDRESSES section of this notice.

8. Appendices

The following information must be included in the appendix of the pre-application and the full application package:

a. Letter of Support and Biomass Availability from Local USDA Forest Service District Ranger or Forest Supervisor Is Required: This letter must describe the status of National Environmental Policy Act (NEPA), acres, timeframes, available volumes, and opportunities for applicant to access these volumes. These letters shall be submitted with both the pre-application and full application.

b. Letters of Support from Partners, Individuals, or Organizations: Letters of support should be included in an appendix and are intended to display the degree of collaboration occurring between the different entities engaged in the project. These letters must include commitments of cash or in-kind services from all partners and must support the amounts listed in the budget. Each letter of support is limited to one page in length.

c. Key Personnel Qualifications: Qualifications of the project manager and key personnel should be included in an appendix. Qualifications are limited to two pages in length and should contain the following: resume, biographical sketch, references, and demonstrated ability to manage the grant.

Dated: September 5, 2008.
James Hubbard,
Deputy Chief, State and Private Forestry.

[FR Doc. E8-21112 Filed 9-10-08; 8:45 am]

BILLING CODE 3410-11-P